DEPARTMENT OF ENERGY

National Coal Council

AGENCY: Department of Energy.

ACTION: Notice of open meeting.

SUMMARY: This notice announces a meeting of the National Coal Council (NCC). The Federal Advisory Committee Act (Pub. L. 92-463, 86 Stat. 770) requires that public notice of these meetings be announced in the Federal Register.

DATES: Friday, October 21, 2011, 9 a.m. to 12 p.m.

ADDRESSES: The Embassy Suites Convention Center, 900 10th Street, NW., Washington, DC 20001.

FOR FURTHER INFORMATION CONTACT: Michael J. Ducker, U.S. Department of Energy; 4G-036/Forrestal Building, 1000 Independence Avenue, SW., Washington, DC 20585-1290; Telephone: (202) 586-7810.

SUPPLEMENTARY INFORMATION: Purpose of Meeting: To conduct an open meeting of the NCC and to provide an update of the current NCC study.

Tentative Agenda

• Welcome and Call to Order by NCC Chair.

• Keynote address by Secretary Steven Chu, Department of Energy.

• Presentation by Phil Ren on the Northeast Asia Coal Exchange Center.

• Presentation by Barry Worthington, President of the U.S. Energy Agency.

• Presentation by Lynn Sprague, National Museum of Forest Service History, on reforestation and reclamation of mine lands.

• Council Business.

• Adjourn.

Public Participation: The meeting is open to the public. If you would like to file a written statement with the Committee, you may do so either before or after the meeting. If you would like to make oral statements regarding any potential items on the agenda, you should contact Michael J. Ducker, (202) 586-7810 or Michael.Ducker@HQ.DOE.GOV (e-mail). You must make your request for an oral statement at least 5 business days before the meeting. Reasonable provision will be made to include the scheduled oral statements on the agenda. The Chairperson of the Committee will conduct the meeting to facilitate the orderly conduct of business. Public comment will follow the 10-minute rule.

Minutes: The NCC will prepare meeting minutes within 45 days of the meeting. The minutes will be posted on the NCC Web site at http://www.nationalcoalcouncil.org/.

Issued: September 13, 2011.
LaTanya R. Butler,
Acting Deputy Committee Management Officer.

[FR Doc. 2011-23943 Filed 9-16-11; 8:45 am]

BILLING CODE 6450-01-P